DEPARTMENT OF COMMERCE

National Oceanic and Atmospheric Administration

50 CFR Part 600

[Docket No. 041029298-5292-05; I.D. 091505E]

RIN 0648-AS38

Magnuson-Stevens Act Provisions; Fishing Capacity Reduction Program; Pacific Coast Groundfish Fishery; California, Washington, and Oregon Fisheries for Coastal Dungeness Crab and Pink Shrimp; Industry Fee Collection System for Fishing Capacity Reduction Loan

AGENCY: National Marine Fisheries Service (NMFS), National Oceanic and Atmospheric Administration (NOAA), Commerce.

ACTION: Proposed rule.

SUMMARY: NMFS publishes this proposed rule to clarify that the fee regulations for the Pacific Coast groundfish fishing capacity reduction program do not apply to any shrimp landed under Washington State fishing licenses for Puget Sound shrimp. The fee regulations remain otherwise unchanged. The intent of this proposed rule is to clarify that the fee rules do not apply to the Puget Sound licenses.

DATES: Written comments on this proposed rule must be received by December 14, 2005.

ADDRESSES: You may submit comments by any of the following methods:

• E-mail: 0648-AS38@noaa.gov. Include in the subject line the following identifier: Pacific Coast Groundfish Buyback RIN 0648-AS38. E-mail comments, with or without attachments, are limited to 5 megabytes.

• Federal e-Rulemaking Portal: http:www.regulations.gov.

• Mail: Michael L. Grable, Chief, Financial Services Division, National Marine Fisheries Service, 1315 East-West Highway, Silver Spring, MD 20910-3282.

• Fax: (301) 713-1306.

FOR FURTHER INFORMATION CONTACT: Michael L. Grable, Financial Services Division, NMFS headquarters, at 301-713-2390.

SUPPLEMENTARY INFORMATION:

Electronic Access

This Federal Register document is also accessible via the Internet at the Office of the Federal Register's website at http://www.access.gpo.gov/su-docs/aces/aces140.html.

Background

Section 312(b)-(e) of the Magnuson-Stevens Fishery Conservation and Management Act (16 U.S.C. 1861a(b) through (e)) (Magnuson-Stevens Act) generally authorizes fishing capacity reduction programs. In particular, Magnuson-Stevens Act section 312(d) authorizes industry fee systems for repaying fishing capacity reduction loans which finance program costs.

Section 212 of Division B, Title II, of Public Law 108-7 (section 212) specifically authorizes the Pacific Coast groundfish fishing capacity reduction program. Pursuant to section 212, NMFS implemented the groundfish program by a July 18, 2003, Federal Register notice (68 FR 42613). On July 13, 2005, NMFS published this program's fee regulations as a final rule (70 FR 40225) which is codified under subpart M at § 600.1102.

The fee regulations require the payment and collection of fees as percentages of the ex-vessel value of certain fish landed in both a “reduction fishery” and in certain “fee-share fisheries”. One of the fee-share fisheries is the Washington State fishery for pink shrimp.

Section 212 defines a “fee-share fishery” as “a fishery, other than the reduction fishery, whose members are eligible to vote in a referendum for an industry fee system . . . .” Section 212 also provides that “persons who have been issued . . . Washington . . . Pink shrimp permits shall be eligible to vote in the referendum . . . .” Consequently, under section 212, the fee-share fishery involving Washington pink shrimp is the fishery for pink shrimp conducted by person whom Washington has issued a “pink shrimp permit.”

At the time the proposed and final rules were published, NMFS was aware of only one “pink shrimp” fishery. NMFS became aware after publication of both the groundfish program notice and the program's subsequent fee regulations of the existence of two additional Washington State licenses involving pink shrimp other then the “pink shrimp” licenses themselves.

These additional Washington State licenses are the “Puget Sound Shrimp Pots” licenses and “Puget Sound Shrimp Trawl” licenses. Although both these Puget Sound shrimp licenses involve some pink shrimp harvests in Puget Sound, both involve the harvest of other types of shrimp as well. The Washington “pink shrimp” permits issued for Puget Sound were not intended to be included in the Washington fee-share fishery involving pink shrimp.

The fee regulations, consequently, did not specifically exclude from fee payment and collection pink shrimp caught under the two Puget Sound shrimp licenses. The holders of the Puget Sound shrimp licenses did not vote in the groundfish program's fee referendum and NMFS did not include the ex-vessel value of pink shrimp landed under the Puget Sound licenses in the required section 212 formula both for referendum vote weighting and for establishing the reduction loan sub-amounts for whose repayment the reduction fishery and each of the fee-share fisheries were responsible.

The Puget Sound shrimp fisheries are not a fee-share fishery and section 212 does not authorize the payment and collection of fees on any shrimp, including pink shrimp, harvested under the Puget Sound shrimp licenses. Nevertheless, the fee regulations do not clearly exclude pink shrimp harvested under the Puget Sound shrimp licenses because NMFS was unaware of these licenses' existence until after adopting a final fee rule.

Fee collection and payment began on September 8, 2005, and this proposed rule is necessary to clarify that the fee-share fishery involving Washington pink shrimp includes only that portion of the Washington pink shrimp which is harvested by persons to whom Washington issued ocean pink shrimp licenses.

Classification

The Assistant Administrator for Fisheries, NOAA (AA), has determined that this proposed rule is consistent with the Magnuson-Stevens Act and other applicable laws.

This proposed rule has been determined to be not significant for purposes of Executive Order 12866.

NMFS has certified to the Small Business Administration, under Section 605(b) of the Regulatory Flexibility Act, that this proposed rule would not have a significant economic impact on a substantial number of small entities.

There are currently six trawl fishing licenses in the Puget Sound within the Washington State shrimp fishery and 115 trawl fishing licenses total within the Washington State Ocean pink shrimp fishery according to the Washington Department of Fish and Wildlife. This regulation would apply to all 121 trawl fishing licenses issued in the Washington State shrimp fishery, although it will only directly affect the 6 Washington State Puget Sound shrimp license holders.

This proposed rule seeks to revise the regulations to expressly exclude the holders of the Puget Sound shrimp licenses from the groundfish program's fee collection system. The holders of the Puget Sound shrimp licenses did not vote in the groundfish program's fee referendum and NMFS did not include the ex-vessel value of pink shrimp landed under the Puget Sound licenses both for referendum vote weighting and for establishing the reduction loan sub-amounts for whose repayment the reduction fishery and each of the fee-share fisheries were responsible. The Puget Sound shrimp fisheries are not a fee-share fishery and the statute that created the program does not authorize the payment and collection of fees on any shrimp, including pink shrimp, harvested under the Puget Sound shrimp licenses.

The change to the regulations will have a de minimis impact on those remaining in the fishery because the total payments from the non-fee-share fisheries are minor. The total fee to be collected for any given year is calculated based on a formula using projected landings, the interest rate, and the amortization schedule, and it is calculated in advance for the entire year. In determining the annual fee, the contributions from holders of the Puget Sound shrimp licenses were not considered in the calculation. The collection of fees from holders of the Puget Sound shrimp licenses would result in the repayment of fees above what was expected for this year. As a result of the additional revenue, the buyback loan would be repaid slightly earlier than expected and would result in a slight decrease in the overall amount of interest accrued on the loan. Removal of the holders of the Puget Sound shrimp licenses would only slightly negatively impact the remaining pink shrimp licence holders because the contributions from the non-fee-share fisheries are small compared to the overall reduction loan amount. The contributions from the holders of Puget Sound shrimp licences represents only 5 percent of the total reduction loan amount. Although the impact of this rule is small, this proposed rule is necessary to ensure that holders of the Puget Sound shrimp licenses are excluded from the requirement to pay fees on pink shrimp landings. These six license holders would be positively affected by this proposed rule through their exemption from a fee they were not intended to have to pay.

List of Subjects in 50 CFR Part 600

Fisheries, Fishing capacity reduction, Fishing permits, Fishing vessels.

Dated: November 23, 2005.
John Oliver,
Deputy Assistant Administrator for Operations, National Marine Fisheries Service.

For the reasons set out in the preamble, 50 CFR part 600 is proposed to be amended as follows:

PART 600—MAGNUSON-STEVENS ACT PROVISIONS

1. The authority citation for part 600 continues to read as follows:

Authority: 16 U.S.C. 1801 et seq.

Subpart M—Specific Fishery or Program Fishing Capacity Reduction Regulations

2. In § 600.1102, the definition of “Fee-share fishery” in paragraph (b) is revised, and paragraphs (d)(2)(vi) and (i)(1)(vi) are revised to read as follows:

§ 600.1102 Pacific Coast groundfish fee.

(b) * * *

Fee-share fishery means each of the fisheries for coastal Dungeness crab and pink shrimp in each of the states of California and Oregon and the fishery for coastal Dungeness crab and ocean pink shrimp in the State of Washington.

(d) * * *

(2) * * *

(vi) Washington ocean pink shrimp fee-share fishery, $259,400.

(i) * * *

(1) * * *

(vi) All fee collections from the Washington ocean pink shrimp fee-share fishery shall be accounted for in a Washington ocean shrimp fee-share fishery subaccount, and

[FR Doc. 05-23464 Filed 11-28-05; 8:45 am]

BILLING CODE 3510-22-S